Title 3—

The President

Proclamation 7854 of December 10, 2004

Human Rights Day, Bill of Rights Day, and Human Rights Week, 2004

By the President of the United States of America

A Proclamation

During Human Rights Day, Bill of Rights Day, and Human Rights Week, we celebrate the founding ideals of our Nation and emphasize the importance of protecting human liberty throughout the world.

As a Nation, we cherish the values of free speech, equality, and religious freedom, and we steadfastly oppose injustice and tyranny. Since the founding of America, the Bill of Rights has protected basic human rights and liberties. In the United States, all citizens have the opportunity to voice their opinions, practice their faith, and enjoy the blessings of freedom.

After the tragedies of World War II, the United Nations General Assembly adopted the Universal Declaration of Human Rights as part of a global effort to curb the cruelty and systematic injustice that had destroyed so many lives. The Universal Declaration of Human Rights affirms the inalienable rights of people everywhere.

In the time since, progress has been made in ensuring that human dignity is respected, and we have witnessed the rise of democratic governments around the world. No other system of government has done more to protect minorities, secure the rights of labor, raise the status of women, or channel human energy to the pursuits of peace than democracy.

My Administration continues to encourage free and open societies around the world. In Burma, we have called on the ruling junta to release Aung San Suu Kyi and engage in dialogue to bring democracy to that country. We are helping lead the international effort to end the suffering in Sudan. We seek to help the people of North Korea, who are struggling to survive under severe repression and difficult living conditions, and our Nation continues to stand with those who strive for democracy in Belarus, Cuba, Iran, and Zimbabwe.

My Administration also has advanced the fight against human trafficking and the abuse and exploitation of women and children, particularly of young girls in the sex trade. In addition, we have expanded our Nation's support for democracy promotion programs globally and have increased the budget for the National Endowment for Democracy to strengthen support for free elections, free markets, free speech, and human rights advocacy around the world.

Freedom and dignity are God's gift to each man and woman in the world. During this observance, we encourage all nations to continue working towards freedom, peace, and security, which can be achieved only through democracy, respect for human rights, and the rule of law.

NOW, THEREFORE, I, GEORGE W. BUSH, President of the United States of America, by virtue of the authority vested in me by the Constitution and laws of the United States, do hereby proclaim December 10, 2004, as Human Rights Day; December 15, 2004, as Bill of Rights Day; and the week beginning December 10, 2004, as Human Rights Week. I call upon the people of the United States to honor the legacy of human rights passed down to us from previous generations and to mark these observances with appropriate ceremonies and activities.

IN WITNESS WHEREOF, I have hereunto set my hand this tenth day of December, in the year of our Lord two thousand four, and of the Independence of the United States of America the two hundred and twenty-ninth.

B

[FR Doc. 04-27575

Filed 12-14-04; 8:45 am]

Billing code 3195-01-P